DEPARTMENT OF HEALTH AND HUMAN SERVICES

Centers for Medicare and Medicaid Services

[Document Identifiers: CMS-R-205, CMS-R-206, CMS-10050, and CMS-R-228]

Agency Information Collection Activities: Proposed Collection; Comment Request

AGENCY: Centers for Medicare and Medicaid Services. In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

(1) Type of Information Collection Request: Extension of a currently approved collection; Title of Information Collection: Information Collection Requirements Referenced in HIPAA for the Individual Market and Supporting Regulations at 45 CFR 148; Form No.: CMS—R-205 (OMB #0938-0703); Use: Information collection requirements (ICRs) will ensure that issuers in the individual market comply with Title 1 of the Health Insurance Portability and Accountability Act, provide individuals with certificates of coverage necessary to demonstrate prior creditable coverage and file documentation with CMS for review in a Federal direct enforcement state. ICRs will also ensure States' flexibility to implement state alternative mechanisms; Frequency: On occasion; Affected Public: Business or other for-profit, Individuals or households, Not-for-profit institutions, Federal government, and State, local, or tribal government; Number of Respondents: 1,041; Total Annual Responses: 3,242,500; Total Annual Hours: 914,347.

(2)Type of Information Collection Request: Extension of a currently approved collection; Title of Information Collection: Information Collection Requirements Referenced in HIPAA for the Group Market and Supporting Regulations at 45 CFR 146; Form No.: CMS—R-206 (OMB #0938-0702); Use: Information collection requirements (ICRs) will ensure that issuers in the group market comply with Title 1 of the Health Insurance Portability and Accountability Act, including providing individuals with certificates of creditable coverage, notifying individuals about their status with respect to pre-existing condition exclusions, and giving them special enrollment rights to which they are entitled and that states and the Federal government have the flexibility necessary to enforce HIPAA.; Frequency: On occasion; Affected Public: Business or other for-profit, Individuals or households, Not-for-profit institutions, Federal government, and State, local, or tribal government; Number of Respondents: 2,080; Total Annual Responses: 43,003,297; Total Annual Hours: 2,652,281.

(3) Type of Information Collection Request: Extension of a currently approved collection; Title of Information Collection: Survey of Newly Eligible Medicare Beneficiaries; Form No.: CMS-10050 (OMB #0938-0869); Use: It is not enough to merely mail information about the Medicare program to each beneficiary. We need to know not only that the beneficiaries got the information, but that they understood the information and are able to use it in making choices about their Medicare participation. To this end, CMS must have measure(s) over time of what beneficiaries know and understand about the Medicare program now to be able to quantify and attribute any changes to their understanding or behavior to information/education initiatives. Measuring beneficiary information needs and knowledge over time will help us to evaluate the impact of information/education and other initiatives as well as to understand how the population is changing apart from such initiatives; Frequency: Monthly; Affected Public: Individuals or households; Number of Respondents: 3,600; Total Annual Responses: 3,600; Total Annual Hours: 1,080.

(4) Type of Information Collection Request: Revision of currently approved collection; Title of Information Collection: Adjusted Community Rate (ACR) Proposal Medicare+Choice; Form No.: CMS-R-228 (OMB #0938-0742); Use: Under Part C of the Social Security Act (ACT), a Medicare + Choice (M + C) organization is required to offer a benefit package that is approved and priced properly to all Medicare beneficiaries residing in the service area. This form is used by M + C organization to price its benefit packages; Frequency: Annually; Affected Public: Business or other-for-profit, Not-for-profit institutions and State, Local or Tribal Government; Number of Respondents: 700 ; Total Annual Responses: 700 ; Total Annual Hours: 66,500.

To obtain copies of the supporting statement and any related forms for the proposed paperwork collections referenced above, access CMS's Web Site address at http://cms.hhs.gov/regulations/pra/default.asp, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room N2-14-26, 7500 Security Boulevard, Baltimore, Maryland 21244-1850.

Dated: December 6, 2002.
Julie Brown,
Acting, Paperwork Reduction Act Team Leader, CMS Reports Clearance Officer, Office of Strategic Operations and Strategic Affairs, Division of Regulations Development and Issuances.

[FR Doc. 02-31546 Filed 12-13-02; 8:45 am]

BILLING CODE 4210-03-P